FEDERAL RETIREMENT THRIFT INVESTMENT BOARD

Notice of Board Meeting

DATES: May 29, 2025 at 10:00 a.m. ET.

ADDRESSES: Telephonic. Dial-in (listen only) information: Number: 1-202-599-1426, Code: 529 856 22#; or via web: https://www.frtib.gov/.

FOR FURTHER INFORMATION CONTACT: James Kaplan, Director, Office of External Affairs, (202) 864-7150.

SUPPLEMENTARY INFORMATION:

Board Meeting Agenda

Open Session

1. Approval of the April 22, 2025, Board Meeting Minutes

2. Approval of the November 14, 2024, ETAC Meeting Minutes

3. Monthly Reports

(a) Participant Report

(b) Investment Report

(c) Legislative Report

4. Quarterly Reports

(c) Metrics

5. OPE Office Presentation

Closed Session

6. Information covered under 5 U.S.C. 552b(c)(9)(B) and (c)(10).

Authority: 5 U.S.C. 552b(e)(1).

Dated: May 15, 2025.
Dharmesh Vashee,
General Counsel, Federal Retirement Thrift Investment Board.

[FR Doc. 2025-09009 Filed 5-19-25; 8:45 am]

BILLING CODE P